DEPARTMENT OF THE INTERIOR

Bureau of Land Management

[LLORW00000.10200000.DF0000.LXSSH1080000.20X.HAG 19-0096]

Notice of Public Meeting for the San Juan Islands National Monument Advisory Committee

AGENCY: Bureau of Land Management, Interior.

ACTION: Notice of public meeting.

SUMMARY: In accordance with the Federal Land Policy and Management Act of 1976 and the Federal Advisory Committee Act of 1972, the U.S. Department of the Interior Bureau of Land Management's (BLM) San Juan Islands National Monument Advisory Committee (MAC) will meet as indicated below.

DATES: The MAC will hold a public meeting on Thursday, August 27, 2020, from 10:00 a.m. to 3:30 p.m. A public comment period will be available in the afternoon. If public health restrictions remain in place, the meeting will be held virtually.

ADDRESSES: The meeting will be held at the Lopez Community Center for the Arts, 204 Village Rd., Lopez Island, WA 98261.

FOR FURTHER INFORMATION CONTACT: Jeff Clark, Spokane District Public Affairs Officer, 1103 N Fancher, Spokane Valley, WA 99212, (509) 536-1297, or jeffclark@blm.gov. Persons who use a telecommunications device for the deaf (TDD) may call the Federal Relay Service at 1(800) 877-8339 to contact the above individual during normal business hours. This service is available 24 hours a day, 7 days a week, to leave a message or question with the above individual. You will receive a reply during normal business hours.

SUPPLEMENTARY INFORMATION: The San Juan Islands MAC is comprised of 12 members representing a wide array of interests, including recreation, tribal interests, education, environmental organizations, and landowners. The August meeting will begin at 10:00 a.m. with a welcome of the new MAC members. After introductions, the members will review the Proposed Resource Management Plan and Environmental Impact Statement. This discussion/review will continue until a working lunch at noon, at which time members of the public will have the opportunity to make comments to the MAC during a one-hour public comment period. The review will continue after the public comment period if necessary. Following the review, members will consider opportunities for the MAC to support implementation of the management plan once the record of decision is signed. This will be followed by a roundtable discussion on local landscape status over the past two years. The MAC will also allow public comments before the meeting adjourns which will occur no later than 3:30 p.m. All advisory council meetings are open to the public. Persons wishing to make comments during the public comment period should register in person with the BLM by 11:00 a.m. on the meeting date at the meeting location. Depending on the number of persons wishing to comment, the length of comments may be limited. The public may send written comments to the MAC at: BLM Spokane District, Attn. MAC, 1103 N Fancher, Spokane Valley, WA 99212. All written comments should be received no later than August 26, 2020. Comments will be shared with the MAC members. The BLM appreciates all comments.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Kurt Pindel,
Spokane District Manager.

[FR Doc. 2020-16056 Filed 7-23-20; 8:45 am]

BILLING CODE 4310-33-P